MILLENNIUM CHALLENGE CORPORATION

[MCC FR 10-03]

Notice of the March 24, 2010 Millennium Challenge Corporation Board of Directors Meeting; Sunshine Act Meeting

AGENCY: Millennium Challenge Corporation.

Time and Date: 10 a.m. to 12 p.m., Wednesday, March 24, 2010.

Place: Department of State, 2201 C Street, NW., Washington, DC 20520.

FOR FURTHER INFORMATION CONTACT: Information on the meeting may be obtained from Romell Cummings via e-mail at Board@mcc.gov or by telephone at (202) 521-3600.

Status: Meeting will be closed to the public.

Matters to be Considered: The Board of Directors (the “Board”) of the Millennium Challenge Corporation (“MCC”) will hold a meeting to discuss approval of the Philippines Compact; compact implementation; and certain administrative matters. The agenda items are expected to involve the consideration of classified information and the meeting will be closed to the public.

Dated: March 5, 2010.
Henry C. Pitney,
Acting Vice President and General Counsel, Millennium Challenge Corporation.

[FR Doc. 2010-5170 Filed 3-5-10; 4:15 pm]

BILLING CODE 9211-03-P